DEPARTMENT OF THE TREASURY

Internal Revenue Service

Notice of Discontinuance of the Electronic Data Interchange (EDI) and Proprietary Formats for Electronically Filed Forms 940 and 941

AGENCY: Internal Revenue Service (IRS), Treasury.

SUMMARY: The Internal Revenue Service (IRS) plans to discontinue acceptance of electronically filed Form 940, Employer's Annual Federal Unemployment (FUTA) Tax Return, and Form 941, Employer's Quarterly Federal Tax Return, in the EDI and Proprietary formats effective October 28, 2006. Decline in use of these formats, coupled with increasing costs to maintain these formats, prompted this decision. This action pertains to e-filers who develop software or electronically transmit Forms 940 and 941.

SUPPLEMENTARY INFORMATION: IRS will continue to support the Extensible Markup Language (XML) file format for electronically filed Forms 940 and 941.

FOR FURTHER INFORMATION CONTACT: Questions or concerns will also be taken over the telephone. Call Jeanie Yancey—202-283-0259 (not a toll-free number). You may email responses entitled EDI-PROP DISCONTINUANCE to Jeanie.S.Yancey@irs.gov.

Dated: February 3, 2006.
Jimmy L. Smith,
Director, Submission Processing Wage and Investment.

[FR Doc. E6-3305 Filed 3-8-06; 8:45 am]

BILLING CODE 4830-01-P